FEDERAL COMMUNICATIONS COMMISSION

47 CFR Part 76

[CS Docket No. 98-132; FCC 01-314]

1998 Biennial Review—Multichannel Video and Cable Television Service

AGENCY: Federal Communications Commission.

ACTION: Correcting amendments.

SUMMARY: This document makes a number of minor corrections to various part 76 rules pertaining to the public file, notice, recordkeeping, and reporting requirements which were published in the Federal Register of Tuesday, September 5, 2000 (65 FR 53610). This action completes the Commission's 1998 biennial review of the public file and notice requirements concerning cable television.

DATES: Effective February 13, 2002.

FOR FURTHER INFORMATION CONTACT: Sonia Greenaway-Mickle, Cable Services Bureau, (202) 418-1419.

SUPPLEMENTARY INFORMATION: This is a summary of the Commission's Second Report and Order (“Second Order”), FCC 01-314, adopted October 22, 2001; released October 31, 2001. The full text of the Commission's Order is available for inspection and copying during normal business hours in the FCC Reference Center (Room CY-A257) at its headquarters, 445 12th Street, SW., Washington, DC 20554, or may be purchased from the Commission's copy contractor, International Transcription Service, Inc., (202) 857-3800, 1231 20th Street, NW., Washington, DC 20036, or may be reviewed via Internet at http://www.fcc.gov/csb/.

In this document we make non-substantive rule changes to correct errors in the publication of part 76 of the Commission's rules. With this action, we complete the Commission's biennial review of the public file, notice, recordkeeping, and notice requirements applicable to cable operators under part 76 of the Commission's rules.

Need for Correction

As published, the final regulations contain errors which may prove to be misleading and need to be clarified.

List of Subjects in 47 CFR Part 76

Multichannel video and cable television service.

Federal Communications Commission.
William F. Caton,
Deputy Secretary.

Accordingly, 47 CFR part 76 is corrected by making the following correcting amendments:

PART 76—MULTICHANNEL VIDEO AND CABLE TELEVISION SERVICE

1.The authority citation for Part 76 continues to read as follows:

Authority: 47 U.S.C. 151, 152, 153, 154, 301, 302, 303, 303a, 307, 308, 309, 312, 315, 317, 325, 338, 339, 503, 521, 522, 531, 532, 533, 534, 535, 536, 537, 543, 544, 544a, 545, 548, 549, 552, 554, 556, 558, 560, 561, 571, 572, 573.

§ 76.305 [Removed]

2. Remove § 76.305.

3. Add Note to § 76.309 to read as follows:

§ 76.309 Customer service obligations.

* * * * *

Note to § 76.309: Section 76.1602 contains notification requirements for cable operators with regard to operator obligations to subscribers and general information to be provided to customers regarding service. Section 76.1603 contains subscriber notification requirements governing rate and service changes. Section 76.1619 contains notification requirements for cable operators with regard to subscriber bill information and operator response procedures pertaining to bill disputes.

4. Add Note 4 to § 76.630 to read as follows:

§ 76.630 Compatibility with consumer electronic equipment.

* * * * *

Note 4 to § 76.630: Cable operators must comply with the notification requirements pertaining to the waiver of the prohibition against scrambling and encryption, and comply with the public file requirement in connection with such waiver.

5. Section 76.1510 is revised to read as follows:

§ 76.1510 Application of certain Title VI provisions.

The following sections within part 76 shall also apply to open video systems; §§ 76.71, 76.73, 76.75, 76.77, 76.79, 76.1702, and 76.1802 (Equal Employment Opportunity Requirements); §§ 76.503 and 76.504 (ownership restrictions); § 76.981 (negative option billing); and §§ 76.1300, 76.1301 and 76.1302 (regulation of carriage agreements); provided, however, that these sections shall apply to open video systems only to the extent that they do not conflict with this subpart S. Section 631 of the Communications Act (subscriber privacy) shall also apply to open video systems.

§ 76.1700 [Amended]

6. Section 76.1700 is amended by removing and reserving paragraph (a)(1).

§ 76.1702 [Amended]

7. Section 76.1702 is amended the first time it appears by removing the editorial note. Section 76.1702 is further amended by removing it the second time it appears in its entirety.

§ 76.1802 [Amended]

8. Section 76.1802 is amended the first time it appears by removing the editorial note. Section 76.1802 is further amended by removing it the second time it appears in its entirety.

[FR Doc. 02-788 Filed 1-11-02; 8:45 am]

BILLING CODE 6712-01-P